NUCLEAR REGULATORY COMMISSION

[Docket No. 50-228-LT; ASLBP No. 14-931-01-LT-BD01]

Aerotest Operations, Inc. (Aerotest Radiography and Research Reactor); Establishment of Atomic Safety and Licensing Board

Pursuant to delegation by the Commission, see 37 FR 28710 (Dec. 29, 1972), and the Commission's regulations, see 10 CFR 2.104, 2.105, 2.300, 2.309, 2.313, 2.318, and 2.321, and in accordance with Commission Memorandum and Order CLI-14-05, notice is hereby given that an Atomic Safety and Licensing Board (Board), consisting of a single administrative judge serving as presiding officer, is being appointed for the limited purpose of compiling a hearing record, ruling on any motions related to developing the factual record, presiding at any oral hearing, and certifying the compiled record to the Commission in the following license transfer proceeding:

Aerotest Operations, Inc. (Aerotest Radiography and Research Reactor)

This proceeding involves a challenge by joint intervenors—Aerotest Operations, Inc. and Nuclear Labyrinth, LLC—to the NRC Staff's July 24, 2013 denial of a license transfer request. See Aereotest Operations, Inc.—Denial of License Renewal, Denial of License Transfer, and Issuance or Order to Modify License No. R-98 to Prohibit Operation of the Aerotest Radiography and Research Reactor, Facility Operating License No. R-98 (TAC NOS. ME8811 and MC9596) (July 24, 2013).

The administrative judge who will serve as presiding officer on the Board is: E. Roy Hawkens, Atomic Safety and Licensing Board Panel, U.S. Nuclear Regulatory Commission, Washington, DC 20555-0001.

All correspondence, documents, and other materials shall be filed in accordance with the NRC E-Filing rule (10 CFR 2.302), which the NRC promulgated in August 2007 (72 FR 49,139).

Issued at Rockville, Maryland this 16th day of April 2014.
E. Roy Hawkens,
Chief Administrative Judge, Atomic Safety and Licensing Board Panel.

[FR Doc. 2014-09160 Filed 4-21-14; 8:45 am]

BILLING CODE 7590-01-P